DEPARTMENT OF TRANSPORTATION

Federal Aviation Administration

Environmental Impact Statement: Sitka Rocky Gutierrez Airport, Sitka AK

AGENCY: Federal Aviation Administration (FAA) DOT.

ACTION: Notice of intent.

SUMMARY: The Federal Aviation Administration announces that it will prepare an Environmental Impact Statement (EIS) for implementation of projects proposed at the Sitka Rocky Gutierrez Airport.

FOR FURTHER INFORMATION CONTACT: Patricia A. Sullivan, Environmental Specialist, Federal Aviation Administration, Alaskan Region, Airports Division, 222 W. 7th Avenue, #14, Anchorage, AK 99513-7587; Telephone (907) 271-5454.

SUPPLEMENTARY INFORMATION: The Federal Aviation Administration will prepare an EIS for implementation of proposed projects at the Sitka Airport. Major projects proposed to be assessed in the EIS include Runway Safety Area; Parallel Taxiway; Seaplane Pullout; improvements to the Airport's Seawall; and Obstruction Removal. These projects, along with other projects proposed to improve safety and efficiency and accommodate growing aviation demand, were identified in the Sitka Airport Master Plan. The State of Alaska Department of Transportation and Public Facilities published the Airport Master Plan April 1999. The City and Borough of Sitka passed a resolution supporting the Airport Master Plan on May 25, 1999. The FAA approved the Airport Layout Plan based on the Master Plan on August 8, 2000.

To ensure that the full range of issues related to the proposed projects are addressed and that all significant issues are identified, FAA intends to consult and coordinate with Federal, State and local agencies that have jurisdiction by law or have specific expertise with respect to any environmental impacts associated with the proposed projects. The scoping meeting will be scheduled at a later date. Notification of the scoping meeting will be published in the Juneau Empire, the Daily Sitka Sentinel and the Federal Register. In addition to providing input at the public scoping meeting, the public may submit written comments to the address FOR FURTHER INFORMATION CONTACT. Comments should be submitted within 30 days of the publication of this Notice.

Issued in Anchorage, Alaska on November 26, 2002.
Byron K. Huffman,
Manager, Airports Division, AAL-600, Alaskan Region.

[FR Doc. 02-31348 Filed 12-11-02; 8:45 am]

BILLING CODE 4910-13-M